Proclamation 7933 of September 16, 2005

National Farm Safety and Health Week, 2005

By the President of the United States of America

A Proclamation

As stewards of our natural resources, farmers and ranchers play a crucial role in keeping our Nation strong. This year's theme for National Farm Safety and Health Week, “Harvesting Safety and Health,” encourages those in the agriculture industry to practice and promote safe working conditions and reminds all Americans of the vital contributions of farmers and ranchers to our country.

Our farming communities embody the American values of hard work, faith, love of family, and love of country. Their skill and dedication feed, clothe, and provide energy for Americans and others around the world.

Agricultural workers face one of the most hazardous work environments in America. Farmers and ranchers operate heavy machinery, work in inclement weather, and tend livestock. Because of these risks, taking safety precautions is vital for agricultural workers. By implementing preventive measures and increasing our knowledge of first aid, we can greatly reduce many hazards of farm and ranch labor. Utilizing safety features and keeping children from working or playing in potentially hazardous areas also can limit injuries and help farmers and ranchers protect their families.

Our farmers and ranchers help keep our Nation strong and advance the opportunities that come from freedom. During National Farm Safety and Health Week, we recognize the significant contributions of farmers and ranchers to our Nation and encourage the further development of work environments that will ensure their safety.

NOW, THEREFORE, I, GEORGE W. BUSH, President of the United States of America, by virtue of the authority vested in me by the Constitution and laws of the United States, do hereby proclaim September 18 through September 24, 2005, as National Farm Safety and Health Week. I call upon the agencies, organizations, and businesses that serve America's agricultural workers to continue strengthening their commitment to promoting farm safety and health programs. I also urge all Americans to recognize the men and women cultivating our land who contribute to the vitality and prosperity of our Nation.

IN WITNESS WHEREOF, I have hereunto set my hand this sixteenth day of September, in the year of our Lord two thousand five, and of the Independence of the United States of America the two hundred and thirtieth.

B

[FR Doc. 05-18977

Filed 9-20-05; 8:45 am]

Billing code 3195-01-P